DEPARTMENT OF DEFENSE

GENERAL SERVICES ADMINISTRATION

NATIONAL AERONAUTICS AND SPACE ADMINISTRATION

48 CFR Parts 2, 22, and 52

[FAC 2005-29, Amendment-1; FAR Case 2007-013; Docket 2008-0001; Sequence 2]

RIN 9000-AK91

Federal Acquisition Regulation; FAR Case 2007-013, Employment Eligibility Verification

AGENCIES: Department of Defense (DoD), General Services Administration (GSA), and National Aeronautics and Space Administration (NASA).

ACTION: Final rule; delay of effective and applicability dates.

SUMMARY: The Department of Defense, General Services Administration, and National Aeronautics and Space Administration have agreed to delay the effective and applicability dates of FAR Case 2007-013, Employment Eligibility Verification, to January 19, 2009, and February 20, 2009, respectively.

DATES: Effective Date: The effective date of FAC 2005-29, the final rule amending 48 CFR Parts 2, 22, and 52, published in the Federal Register on November 14, 2008, at 73 FR 67650, is delayed January 15, 2009, until January 19, 2009.

Applicability Date: The applicability date of FAC 2005-29 is delayed until February 20, 2009.

Contracting officers shall not include the new clause at 52.222-54, Employment Eligibility Verification, in any solicitation or contract prior to the applicability date of February 20, 2009.

On or after February 20, 2009, contracting officers—

• Shall include the clause in solicitations in accordance with the clause prescription at 22.1803; and

• Should modify, on a bilateral basis, existing indefinite-delivery/indefinite-quantity contracts in accordance with FAR 1.108(d)(3) to include the clause for future orders if the remaining period of performance extends beyond August 20, 2009, and the amount of work or number of orders expected under the remaining performance period is substantial.

FOR FURTHER INFORMATION CONTACT: The FAR Secretariat at (202) 501-4755 for further information pertaining to status or publication schedule. Please cite FAC 2005-29 (delay of effective and applicability dates).

SUPPLEMENTARY INFORMATION: This document extends to January 19, 2009, the effective date of the E-Verify rule, in order to comply with the Congressional Review Act (5 U.S.C. 801(a)(3)(A)). Although this rule was published in the Federal Register on November 14, 2008 (73 FR 67650), it was not received by Congress until November 19, 2008. Because of pending litigation, the applicability date for the regulation is being extended until February 20, 2009.

Federal Acquisition Circular

Federal Acquisition Circular (FAC) 2005-29, Amendment-1, is issued under the authority of the Secretary of Defense, the Administrator of General Services, and the Administrator for the National Aeronautics and Space Administration.

The Federal Acquisition Regulation (FAR) contained in FAC 2005-29 is effective January 19, 2009, and applicable February 20, 2009.

Dated: January 9, 2009.
Linda W. Neilson,
Acting Deputy Director, Defense Procurement (Defense Acquisition Regulations System).
Dated: January 9, 2009.
David A. Drabkin,
Senior Procurement Executive & Deputy Chief Acquisition Officer, U.S. General Services Administration.
Dated: January 9, 2009.
William P. McNally,
Assistant Administrator for Procurement, National Aeronautics and Space Administration.

[FR Doc. E9-651 Filed 1-13-09; 8:45 am]

BILLING CODE 6820-EP-P